DEPARTMENT OF DEFENSE

Office of the Secretary

[Transmittal No. 16-56]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Pamela Young, DSCA/SA&E-RAN, (703) 697-9107.

The following is a copy of a letter to the Speaker of the House of Representatives, Transmittal 16-56 with attached Policy Justification and Sensitivity of Technology.

Dated: January 25, 2017.
Aaron Siegel,
Alternate OSD Federal Register Liaison Officer, Department of Defense.

BILLING CODE 5001-06-P

BILLING CODE 5001-06-C

Transmittal No. 16-56

Notice of Proposed Issuance of Letter of Offer Pursuant to Section 36(b)(1) of the Arms Export Control Act, as amended

(i) Prospective Purchaser: Government of Kuwait

(ii) Total Estimated Value:

Major Defense Equipment * | $105 million
Other | $ 5 million
TOTAL | $110 million

(iii) Description and Quantity or Quantities of Articles or Services under Consideration for Purchase:

Major Defense Equipment (MDE):

Sixty (60) AIM-120C-7 Advanced Medium Range Air-to-Air Missiles (AMRAAMs)

Non-MDE:

This request also includes the containers and other related services.

(iv) Military Department: Air Force (X5-D-YAD)

(v) Prior Related Cases, if any: KU-D-YAB (M3)

(vi) Sales Commission, Fee, etc., Paid, Offered, or Agreed to be Paid: None

(vii) Sensitivity of Technology Contained in the Defense Article or Defense Services Proposed to be Sold: See Annex Attached.

(viii) Date Report Delivered to Congress: January 23, 2017

*as defined in Section 47(6) of the Arms Export Control Act.

POLICY JUSTIFICATION

Kuwait—AIM-120C-7 Advanced Medium Range Air-to-Air Missile (AMRAAM)

The Government of Kuwait has requested a possible sale of sixty (60) AIM-120C-7 AMRAAM Missiles including containers and other related services. The total overall estimated value is $110 million.

This proposed sale contributes to the foreign policy and national security of the United States by improving the security of a Major Non-NATO Ally that continues to be an important force for political stability and economic progress in the Middle East. Kuwait is a strategic partner in maintaining stability in the region. This sale will increase Kuwait's interoperability with the United States. It also ensures a sustained air-to-air capability for Kuwait's F/A-18 aircraft.

The proposed sale of this equipment and support will not alter the basic military balance in the region.

Implementation of the sale does not require the assignment of any additional U.S. Government or contractor representatives to Kuwait.

The principal contractor will be Raytheon Corporation, Tucson, Arizona. There are no known offset agreements proposed in connection with this potential sale.

There will be no adverse impact on U.S. defense readiness as a result of this proposed sale.

Transmittal No. 16-56

Notice of Proposed Issuance of Letter of Offer Pursuant to Section 36(b)(1) of the Arms Export Control Act

Annex

Item No. vii

(vii) Sensitivity of Technology:

1. The AIM-120C Advanced Medium Range Air-to-Air (AMRAAM) is a radar guided missile featuring digital technology and micro-miniature solid-state electronics. AMRAAM capabilities include look-down/shoot-down, multiple launches against multiple targets, resistance to electronic counter measures, and interception of high flying and low flying and maneuvering targets. The AMRAAM All Up Round is classified Confidential, major components and subsystems range from Unclassified to Confidential, and technology data and other documentation are classified up to Secret.

2. If a technologically advanced adversary obtains knowledge of the specific hardware and software elements, the information could be used to develop countermeasures or equivalent systems that might reduce weapon system effectiveness or be used in the development of a system with similar or advanced capabilities.

3. This sale is necessary in furtherance of the U.S. foreign policy and national security objectives outlined in the Policy Justification. Moreover, the benefits to be derived from this sale, as outlined in the Policy Justification, outweigh the potential damage that could result if the sensitive technology were revealed to unauthorized persons.

4. All defense articles and services listed in this transmittal have been authorized for release and export to the Government of Kuwait.

[FR Doc. 2017-01971 Filed 1-27-17; 8:45 am]

BILLING CODE 5001-06-P